POSTAL REGULATORY COMMISSION

[Docket Nos. CP2012-59 and CP2014-36; Order No. 2025]

International Mail Contract

AGENCY: Postal Regulatory Commission.

ACTION: Notice.

SUMMARY: The Commission is noticing a recent Postal Service filing concerning an International Business Reply Service Competitive Contract 3 (IBRS Competitive Contract 3) negotiated service agreement. This notice informs the public of the filing, invites public comment, and takes other administrative steps.

DATES: Comments are due: March 25, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Brian Corcoran, Acting General Counsel, at 202-789-6820.

SUPPLEMENTARY INFORMATION:

Table of Contents

I. Introduction

II. Notice of Filings

III. Ordering Paragraphs

I. Introduction

On March 14, 2014, the Postal Service filed notice that it has established contingency prices pursuant to an existing, albeit expired, International Business Reply Service Competitive Contract 3 (IBRS Competitive Contract 3) negotiated service agreement.¹

¹ Notice of United States Postal Service of Prices Under Functionally Equivalent International Business Reply Service Competitive Contract 3 Negotiated Service Agreement, March 14, 2014 (Notice).

The Notice includes four attachments: A redacted copy of the notice to the customer of the contingency prices, a redacted copy of Governors' Decision No. 08-24, a certification of compliance with 39 U.S.C. 3633(a), and an application for non-public treatment of certain materials. It also includes supporting financial workpapers.

II. Notice of Filings

The Postal Service filed its Notice in Docket No. CP2014-36. However, the contingency prices described in the Notice were established pursuant to a term of an agreement approved by the Commission in Docket No. CP2012-59 that continued in effect after the agreement expired.² As such, the contingency prices are more properly considered in connection with the docket relating to the expired agreement.³ Consequently, the Commission reopens Docket No. CP2012-59 for consideration of matters raised by the Notice. Docket No. CP2014-36 is closed.

² Notice at 2. See also Docket No. CP2012-59, Order No. 1480, Order Approving New International Business Reply Service Competitive Contract 3 Agreement, September 27, 2012.

³ The Commission previously established separate dockets for the consideration of contingency prices established pursuant to an IBRS Competitive Contract 1 agreement. See, e.g., Docket No. CP2013-28, Order No. 1587, Notice and Order Concerning International Business Reply Service Competitive Contract 1 Product, December 18, 2012. However, unlike the instant contract, the IBRS Competitive Contract 1 agreement was executed before the Commission's rules governing competitive products took effect. Id. at 3. As a result, there was no docket for the underlying agreement that the Commission could have reopened.

Interested persons may submit comments on whether the Postal Service's filing is consistent with 39 U.S.C. 3632, 3633, or 3642, 39 CFR part 3015, and 39 CFR part 3020, subpart B. Comments are due no later than March 25, 2014. The public portions of the filing can be accessed via the Commission's Web site (http://www.prc.gov).

The Commission appoints Manon A. Boudreault to serve as Public Representative in this docket.

III. Ordering Paragraphs

It is ordered:

1. The Commission reopens Docket No. CP2012-59 for consideration of the matters raised by the Postal Service's Notice.

2. Docket No. CP014-36 is closed.

3. Pursuant to 39 U.S.C. 505, Manon A. Boudreault is appointed to serve as an officer of the Commission to represent the interests of the general public in these proceedings (Public Representative).

4. Comments by interested persons in these proceedings are due no later than March 25, 2014.

5. The Secretary shall arrange for publication of this order in the Federal Register.

By the Commission.
Shoshana M. Grove,
Secretary.

[FR Doc. 2014-06236 Filed 3-21-14; 8:45 am]

BILLING CODE 7710-FW-P